DEPARTMENT OF COMMERCE

National Oceanic and Atmospheric Administration

[I.D. 021601B]

Fisheries of the Exclusive Economic Zone off Alaska; Prohibited Species Donation Progran

AGENCY: National Marine Fisheries Service (NMFS), National Oceanic and Atmospheric Administration (NOAA), Commerce.

ACTION: Authorization and Renewal.

SUMMARY: NMFS announces the renewal of Northwest Food Strategies’ (NFS) authorization to donate Pacific halibut to economically disadvantaged individuals under the Prohibited Species Donation (PSD) program. This action is necessary to comply with provisions of the PSD program implemented at 50 CFR part 679.

DATES: January 1, 2001, through December 31, 2003.

ADDRESSES: Copies of the PSD Permit may be obtained from the Sustainable Fisheries Division, NMFS, Alaska Region, P.O. Box 21668, Juneau, AK 99802-21668, Attn: Lori Gravel. Copies of Amendments 50 to the groundfish FMPs and of the Environmental Assessment/Regulatory Impact Review (EA/RIR) prepared for the amendments may be obtained from the North Pacific Fishery Management Council, 605 West 4th Ave., Suite 306, Anchorage, AK 99510-2252.

FOR FURTHER INFORMATION CONTACT: Nina Mollett, 907-586-7462.

SUPPLEMENTARY INFORMATION:

Background

The domestic groundfish fisheries in the exclusive economic zone of the Gulf of Alaska and Bering Sea and Aleutian Islands Management Area are managed by NMFS according to the Fishery Management Plan for Groundfish of the Gulf of Alaska and the Fishery Management Plan for the Groundfish Fishery of the Bering Sea and Aleutian Islands Area (FMPs). The FMPs were prepared by the North Pacific Fishery Management Council under the Magnuson-Stevens Fishery Conservation and Management Act (Magnuson-Stevens Act). Regulations governing the Alaska groundfish fisheries appear at 50 CFR parts 600 and 679. Fishing for Pacific halibut in waters in and off Alaska is governed by the Convention between the United States and Canada for the Preservation of the Halibut Fishery of the North Pacific Ocean and Bering Sea and by regulations adopted by the International Pacific Halibut Commission and approved by the Secretary of State of the United States pursuant to section 4 of the Northern Pacific Halibut Act (16 U.S.C. 773-773k).

Amendments 50/50 to the FMPs, which authorize the PSD program, were published in the Federal Register on June 12, 1998 (63 FR 32144). These amendments expanded the existing Salmon Donation Program by creating a program that includes Pacific halibut as well. The regulations authorize the voluntary distribution of Pacific halibut, taken incidentally in groundfish trawl fisheries off Alaska and landed at shoreside processing plants, to needy individuals by tax-exempt organizations, through an authorized distributor.

The Regional Administrator, Alaska Region, NMFS (Regional Administrator) selected NFS, 600 Erickson Avenue, Suite 395, Bainbridge Island, WA 98110 to be an authorized distributor, as defined by 50 CFR 679.2, based on information submitted by NFS as required under § 679.26. The selection was announced in the Federal Register (63 FR 43380, August 13, 1998) and a permit was issued to NFS. A PSD permit issued to an authorized distributor may be renewed following application procedures at § 679.26(b).

The PSD program was scheduled to expire on December 31, 2000. This sunset provision was established to allow time for agency evaluation before Council action was taken to make it a permanent program. Following evaluation, NMFS permanently extended the PSD program on January 1, 2001 (65 FR 78119, December 14, 2000).

NFS had been authorized to distribute Pacific halibut under the PSD program from August 13, 1998, through December 31. 2000. During this period, NFS effectively coordinated the distribution of prohibited halibut bycatch for 3 years. NFS employed an independent seafood laboratory to ensure product quality and received support from cold storage facilities and common carriers servicing the areas where Pacific halibut donation would take place. The company worked with three shoreside processors located in Dutch Harbor, AK. Approximately 6 to 10 metric tons were landed and donated annually. NFS anticipates that this amount could increase.

NFS has submitted an application to renew its status as an authorized distributor. NMFS has reviewed NFS’ application, and, on the basis of information submitted in the application, selects NFS as an authorized distributor. This document announces NFS’ selection and the renewal of NFS’ permit through December 31, 2003.

The PSD permit may not be transferred and will be in effect for a 3-year period unless suspended or revoked. Suspension, modification, or revocation could occur under 15 CFR part 904, for noncompliance with terms and conditions specified in the permit or for a violation of this section or other regulations in 50 CFR part 679.

Classification

This action is taken under 50 CFR 679.26.

Authority: 16 U.S.C. 773 et seq., 1801 et seq., and 3631 et seq.

Dated: February 27, 2001.
Bruce C. Morehead,
Acting Director, Office of Sustainable Fisheries, National Marine Fisheries Service.

[FR Doc. 01-5263 Filed 3-2-01; 8:45 am]

BILLING CODE 3510-22-S